DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2480; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On April 7, 2021, OFAC determined that the property and interests in property subject to U.S. jurisdiction of the following persons are blocked under the relevant sanctions authorities listed below.

Individuals

1. KHAN, Abid Ali (a.k.a. ABID, Thakur; a.k.a. ALI, Abid; a.k.a. KHAN, Abid; a.k.a. “ABID”), Hakim Abad, Nowshera, KPK, Pakistan; KPK, Pakistan; DOB 13 Mar 1981; POB Nowshera, Pakistan; nationality Pakistan; citizen Pakistan; Email Address thakurabid@gmail.com; alt. Email Address pakistancopy@gmail.com; Gender Male; Passport DA 1790252 (Pakistan) (individual) [TCO] (Linked To: ABID ALI KHAN TRANSNATIONAL CRIMINAL ORGANIZATION). Designated pursuant to section 1(a)(ii)(B) of Executive Order 13581 of July 25, 2011, “Blocking Property of Transnational Criminal Organizations” (E.O. 13581), as amended by E.O. 13863 of March 15, 2019, “Taking Additional Steps to Address the National Emergency With Respect to Significant Transnational Criminal Organizations,” for having materially assisted, sponsored, or provided financial, material, or technological support for, or goods or services to or in support of, the ABID ALI KHAN TRANSNATIONAL CRIMINAL ORGANIZATION (ABID ALI KHAN TCO), a person determined to be subject to E.O. 13581. Also designated pursuant to section 1(a)(ii)(C) of E.O. 13581 for having acted or having purported to act for or on behalf of, directly or indirectly, the ABID ALI KHAN TCO [TCO].

2. KARIM, Shakeel (a.k.a. FAZAL, Shakeel Karim; a.k.a. “KAREEM, Shakeel”), Mohallah Gharib Abad Post Office Hathian, Dist. Mardan, Mardan, KPK, Pakistan; DOB 01 Jan 1975; POB Mardan, Pakistan; nationality Pakistan; citizen Pakistan; Email Address shksma@gmail.com; Gender Male; Passport AF5164852 (Pakistan) issued 01 Oct 2011 expires 29 Sep 2016 (individual) [TCO] (Linked To: ABID ALI KHAN TRANSNATIONAL CRIMINAL ORGANIZATION). Designated pursuant to section 1(a)(ii)(B) of E.O. 13581, as amended by E.O. 13863, for having materially assisted, sponsored, or provided financial, material, or technological support for, or goods or services to or in support of, the ABID ALI KHAN TCO, a person determined to be subject to E.O. 13581.

3. GUL, Redi Hussein Khal (a.k.a. “GUL, Redi”; a.k.a. “GULL, Rida”), Nowshera, Pakistan; DOB 25 Dec 1981; POB Afghanistan; nationality Afghanistan; citizen Afghanistan; Gender Male (individual) [TCO] (Linked To: ABID ALI KHAN TRANSNATIONAL CRIMINAL ORGANIZATION). Designated pursuant to section 1(a)(ii)(B) of E.O. 13581, as amended by E.O. 13863, for having materially assisted, sponsored, or provided financial, material, or technological support for, or goods or services to or in support of, the ABID ALI KHAN TCO, a person determined to be subject to E.O. 13581 [TCO]. Also designated pursuant to section 1(a)(ii)(C) of E.O. 13581 for having acted or purported to act for or on behalf of, directly or indirectly, the ABID ALI KHAN TCO [TCO].

4. WARAICH, Choudry Ikram (a.k.a. WARAICH, Ikram; a.k.a. WARAICH, Iqbal; a.k.a. WARRAICH, Ullah; a.k.a. WARRICH, Akram; a.k.a. “AKRAM, Mohammed”), Dubai, United Arab Emirates; DOB 01 Jan 1985; POB Gujrat, Pakistan; nationality Pakistan; citizen Pakistan; Passport CD1328422 (Pakistan) (individual) [TCO] (Linked To: ABID ALI KHAN TRANSNATIONAL CRIMINAL ORGANIZATION). Designated pursuant to section 1(a)(ii)(B) of E.O. 13581, as amended by E.O. 13863, for having materially assisted, sponsored, or provided financial, material, or technological support for, or goods or services to or in support of, the ABID ALI KHAN TCO, a person determined to be subject to E.O. 13581 [TCO].

Entities

1. ABID ALI KHAN TRANSNATIONAL CRIMINAL ORGANIZATION, Pakistan; Afghanistan; United Arab Emirates [TCO]. Designated pursuant to section 1(a)(ii)(A) of E.O. 13581, as amended by E.O. 13863, for being a foreign person that constitutes a significant transnational criminal organization [TCO].

2. FRIENDS TRAVEL INN PRIVATE LIMITED (a.k.a. FRIENDS TRAVEL INN PVT LTD), Basement Al Hajj Tower Basement Jhangir Abad Bus Stop, University Road, Peshawar 25000, Pakistan; Basement Al Haj Tower, University Road, Peshawar, Kyhber Pakhtunkhwa 25000, Pakistan; website www.ftravelinn.com; Organization Established Date 04 Jul 2010; Organization Type: Travel agency activities; Commercial Registry Number 0072107 (Pakistan) [TCO] (Linked To: ABID ALI KHAN TRANSNATIONAL CRIMINAL ORGANIZATION). Designated pursuant to section 1(a)(ii)(C) of E.O. 13581, as amended by E.O. 13863, for having acted or for having purported to act for or on behalf of, directly or indirectly, Shakeel Karim and the ABID ALI KHAN TCO, persons determined to be subject to E.O. 13581 [TCO].

Dated: April 7, 2021.
Bradley T. Smith,
Acting Director, Office of Foreign Assets Control, U.S. Department of the Treasury.

[FR Doc. 2021-07418 Filed 4-9-21; 8:45 am]

BILLING CODE 4810-AL-P